DEPARTMENT OF THE INTERIOR

Bureau of Land Management

[LLNMF02000 L16100000.DP0000 LXSS026G0000]

Notice of Availability of the Draft Resource Management Plan and Draft Environmental Impact Statement for the Taos Field Office, New Mexico

AGENCY: Bureau of Land Management, Interior.

ACTION: Notice of Availability.

SUMMARY: In accordance with the National Environmental Policy Act of 1969, as amended, and the Federal Land Policy and Management Act of 1976, as amended, the Bureau of Land Management (BLM) has prepared a Draft Resource Management Plan (RMP) and Draft Environmental Impact Statement (EIS) for the Taos Field Office and by this notice is announcing the opening of the comment period.

DATES: To ensure that comments will be considered, the BLM must receive written comments on the Draft RMP/EIS within 90 days following the date the Environmental Protection Agency publishes this Notice of Availability in the Federal Register. The BLM will announce future meetings or hearings and any other public participation activities at least 15 days in advance through public notices, media releases, and/or mailings.

ADDRESSES: You may submit comments related to the Taos Draft RMP/EIS by any of the following methods:

• Web site: http://www.blm.gov/nm/st/en/fo/Taos_Field_Office/taos_rmpr.html.

• E-mail: NM_TAFO_Comment@blm.gov.

• Mail: Bureau of Land Management, Attention: Brad Higdon, 226 Cruz Alta, Taos, New Mexico 87571.

Copies of the Taos Draft RMP and EIS are available at the Taos Field Office at the above address and at the New Mexico State Office at 301 Dinosaur Trail, Santa Fe, New Mexico 87508.

FOR FURTHER INFORMATION CONTACT: For further information contact Brad Higdon, Planning and Environmental Coordinator, Taos Field Office, telephone (575) 751-4725; address 226 Cruz Alta, Taos, New Mexico 87571; e-mail NM_TAFO_Comment@blm.gov.

SUPPLEMENTARY INFORMATION: The Taos Draft RMP/EIS analyzes the environmental consequences of four alternative land use plans under consideration by the BLM for managing approximately 595,100 acres of surface estate and 1.5 million acres of mineral estate administered by the Taos Field Office within Colfax, Harding, Los Alamos, Mora, Rio Arriba, Santa Fe, Taos, and Union counties in northern New Mexico. This land use plan would replace the current Taos RMP approved in 1988 and is needed to provide updated management decisions including, but not limited to, land tenure adjustments, land use authorizations, mineral resources, recreation, renewable energy, special designations, transportation and access, and visiual resources. Upon approval, the Taos RMP will apply only to BLM-administered public lands and Federal mineral estate.

The four alternatives analyzed in detail in the Draft RMP/EIS include the No Action Alternative, or a continuation of the existing management decisions; Alternative A, the BLM's preferred alternative, which provides for a balance of resource uses with protections; Alternative B, which emphasizes resource conservation and protection; and Alternative C, which allows for a greater opportunity for resource use and development. Among the special designations under consideration within the range of alternatives, Areas of Critical Environmental Concern (ACECs) are proposed to protect certain natural resource values. Pertinent information regarding these ACECs, including proposed designation acreages and resource use limitations per alternative, are sumarized in the table below.

Proposed ACEC Designation Summary
ACEC & values | Summary of proposed resource use limitations | Variance by alternative
Black Mesa Cultural Vegetation | • Rights-of-way would be excluded. • Livestock grazing would be excluded from pueblo sites and areas where other conflicts with cultural resources are apparent, as well as the 325-acre Ojo Caliente Demonstration Area. • Closed to fluid mineral leasing. • Withdrawn from locatable mineral entry. • Closed to mineral material sales. | No Action: 1,430 acres. Alternative A: ACEC rescinded; area would be incorporated into Ojo Caliente ACEC with the identified resource use limitations. Alternative B: Same as Alternative A. Alternative C: ACEC would be rescinded.
| • Closed to wind and solar energy.
| • Portions would be closed to motorized travel, while the remaining area would be limited to designated roads.
| • A portion would be managed to protect its wilderness characteristics.
Chama Canyons Riparian Scenic Water quality Wildlife | • Rights-of-way would be excluded. • Livestock grazing would not be available along the Rio Cebolla. The availability of grazing within the wilderness study area would be subject to the Interim Management Policy for Lands Under Wilderness Review (H-8550-1). Lands within the Chama Wild and Scenic River corridor and acquired lands would not be unavailable under the no action alternative. • Closed to fluid mineral leasing. • Withdrawn from locatable mineral entry. | No Action: 6,140 acres would continue to be managed as a Special Management Area (SMA). Alternative A: 7,680 acres. Alternative B: Same as Alternative A. Alternative C: ACEC would not be designated and SMA would be rescinded.
| • Closed to mineral material sales.
| • Closed to wind and solar energy.
| • Closed to motorized travel.
| • Visual Resource Management (VRM) Class I would apply.
| • A portion outside of the wilderness study area would be managed to protect its wilderness characteristics (Alternatives A and B only).
| • No surface disturbing activities would be permitted.
La Cienega Cultural Riparian Scenic Wildlife habitat | • Livestock grazing would be excluded from pueblo ruins and other areas where substantial conflicts with cultural resources are apparent to protect these resources, as well as from Santa Fe River canyon (Alternatives A and B only) to protect riparian vegetation. • A no surface occupancy stipulation would be applied to fluid mineral leasing under the no action alternative and Alternative C. Most of the area would be subject no surface occupancy under Alternatives A and B, while control surface use would be applied within the remainder of the area. • Withdrawn from locatable mineral entry. • Closed to mineral material sales. | No Action: 3,730 acres. Alternative A: 13,390 acres. Alternative B: Same as Alternative A. Alternative C: Same as the no action alternative.
| • Closed to wind energy development (Alternatives A and B only).
| • VRM Class I would apply to a portion of the area (Alternatives A and B only).
| • Portions would be closed to motorized travel, while the remaining area would be limited to designated roads (Alternatives A and B only).
| • No tree removal in a portion of the area.
| • Santa Fe River canyon would be closed to target shooting (Alternatives A, B, and C only).
| • No tree removal in T. 16 N., R. & E., Sec. 7 to protect Gray Vireo habitat.
Copper Hill Cultural Fish habitat Riparian Scenic Watershed Wildlife habitat | • Livestock grazing would be excluded from lands within allotments 518, 519, and 520, while grazing would become excluded on allotment 521 when the permit is no longer used. • Rights-of-way would be excluded from Agua Caliente, Rio Embudo, and Lower Embudo zones. • Closed to fluid mineral leasing under Alternative B, while only certain zones would be closed and/or subject to no surface occupancy under the other alternatives. • Withdrawn from locatable mineral entry. • Closed to mineral material sales except at Piedra Lumbre and Hilltop. • Closed to wind and solar energy. | All alternatives: 177,200 acres.
| • Visual Resource Management Class I would apply to a portion of the area under the no action alternative and Alternatives A and B.
| • Fire suppression methods causing surface disturbance would not be allowed in the Lower Embudo zone.
| • Soil and vegetation disturbing activities would be prohibited within 100-year floodplains.
| • Vehicle access to pueblo ruins in Lower Embudo zone by permit only.
Galisteo Basin Cultural | • 450 acres of public lands would be managed according to the provisions of the Galisteo Basin Archaeological Sites Protection Act of 2004 under all alternatives. • Livestock grazing would be excluded from cultural sites (i.e., pueblo ruins). • Rights-of-way would be excluded. • Closed to fluid mineral leasing. | No Action: 80 acres would continue to be managed as an SMA. Alternative A: 450 acres. Alternative B: 450 acres. Alternative C: ACEC would not be designated.
| • Withdrawn from locatable mineral entry.
| • Closed to mineral material sales.
| • Closed to wind and solar energy.
| • Closed to target shooting.
Lower Gorge Cultural Riparian Special Status Species Wildlife habitat | • Withdrawn from public land laws. • Rights-of-way would be excluded except for road upgrades to improve safety or to provide access or utility service to non-federal lands where no practicable alternative exists. • Livestock grazing would be excluded from riparian and wetland areas. • Closed to fluid mineral leasing. • Withdrawn from locatable mineral entry. | No Action: 16,510 acres (includes designated Wild and Scenic River corridor). Alternative A: 21,150 acres. Alternative B: Same as Alternative A. Alternative C: 14,490 acres (does not include designated Wild and Scenic River corridor).
| • Closed to mineral material sales.
| • Closed to wind and solar energy.
| • A portion of the area would be managed as VRM Class I (Alternatives A and B only).
| • Soil- and vegetation-disturbing activities would be prohibited within 100-year floodplains to prevent the degradation of aquatic habitat.
| • Southwestern willow flycatcher habitat would be protected.
Ojo Caliente Cultural Ecological Processes Riparian Scenic Special Status Species Wildlife habitat | • Rights-of-way would be excluded from the Rincon del Cuervo area under Alternatives A and B, as well as the Cerro Colorado area under Alternative B. • Livestock grazing would be excluded from pueblo ruins and other areas where substantial conflicts with cultural resources are apparent, as well as from the 325-acre Ojo Caliente Demonstration Area. • Closed to fluid mineral leasing under Alternatives A and B, while nearly a third of the area would be closed under the no action alternative and Alternative C. | No Action: 13,370 acres. Alternative A: 66,150 acres. Alternative B: 66,150 acres. Alternative C: 13,370 acres.
| • Withdrawn from locatable mineral entry (Alternatives A and B only).
| • Mostly closed to mineral material sales (Alternative A and B only).
| • Closed to wind and solar energy.
| • A portion would be closed to motorized travel, while the remaining area would be limited to designated roads (Alternatives A, B, and C only).
| • VRM Class I would apply to the Rincon del Cuervo under Alternatives A and B, as well as Cerro Colorado under Alternative B.
| • Rincon del Cuervo would be managed to protect its wilderness characteristics under Alternatives A and B, as well as the Cerro Colorado area under Alternative B.
| • Soil- and vegetation-disturbing activities would be prohibited within 100-year floodplains to prevent the degradation of aquatic habitat.
Pueblos Cultural | • Rights-of-way would be excluded. • Livestock grazing would be excluded from pueblo ruin sites. • Closed to fluid mineral leasing. • Withdrawn from locatable mineral entry. • Mostly closed to mineral material sales. • Closed to wind and solar energy (Alternatives A and B). • Other resource uses, except for site recordation or research, would not be allowed at the pueblo ruin sites. | No Action: Six pueblos on 315 acres would continue to be managed as an SMA. Alternative A: 240 aces (two sites included in the SMA under the no action alternative are incorporated into other ACECs). Alternative B: Same as Alternative A. Alternative C: 335 acres (includes six sites included in the SMA under the no action alternative plus two additional sites).
Riparian/Aquatic Riparian Aquatic | • Rights-of-way would be excluded unless impacts can be mitigated, based on site-specific analysis. • Livestock grazing would be excluded from select riparian areas or where livestock grazing is determined to degrade the resource and cannot be mitigated otherwise. • Portions would be closed to fluid mineral leasing, while others would have no surface occupancy or controlled surface use stipulations attached to leases. • Withdrawn from locatable mineral entry. | No Action: 2,250 acres. Alternative A: ACEC would be rescinded. Alternative B: 1,275 acres (limited to riparian areas not within other ACECs or along designated Wild and Scenic Rivers). Alternative C: ACEC would be rescinded.
| • Mostly closed to mineral material sales.
| • Closed to wind and solar energy under Alternative B.
| • Much of the area would be closed to motorized travel under the no action alternative.
Sabinoso Riparian Scenic Wildlife habitat | • Rights-of-way would be excluded. • Livestock grazing would be excluded in riparian areas. • Closed to fluid mineral leasing (within designated wilderness only under the no action alternative). • Withdrawn from locatable mineral entry (within designated wilderness only under the no action alternative). • Closed to mineral material sales (within designated wilderness only under the no action alternative). | No Action: 19,570 acres would continue to be managed as an SMA. Alternative A: 19,780 acres. Alternative B: Same as Alternative A. Alternative C: ACEC would be rescinded.
| • Closed to wind and solar energy (within designated wilderness only under the no action alternative).
| • The designated wilderness would be closed to motorized travel.
| • VRM Class I would apply.
| • A portion of the area adjacent to Sabinoso Wilderness would be managed to protect its wilderness characteristics (Alternatives A and B only).
| • Soil- and vegetation-disturbing activities would be restricted in order to reduce soil loss and degradation to water quality.
San Antonio (includes the San Antonio Gorge and Winter Range ACEC units) Ecological Processes Riparian Scenic Wildlife habitat | • Livestock grazing would be unavailable within the Rio San Antonio corridor. • The San Antonio Wilderness Study Area (WSA), Rio San Antonio corridor, and Warm Springs area would be closed to fluid mineral leasing, while the remaining area would be subject to controlled surface use, including timing limitations. • Withdraw the San Antonio Gorge and Los Cerritos de la Cruz areas from locatable mineral entry. • Close the San Antonio WSA, San Antonio Gorge, and Los Cerritos de Taos to mineral material sales. • The San Antonio WSA and Rio San Antonio corridor would be closed to motorized travel (Alternative C only). • Visual Resource Management Class I would apply to San Antonio WSA and the Rio San Antonio corridor (Alternative C only). | No Action: 57,750 acres would continue to be managed as an SMA and include smaller ACEC units. Alternative A: ACEC rescinded, but area would be incorporate into Taos Plateau ACEC. Alternative B: ACEC rescinded, but area would be incorporate into Taos Plateau ACEC. Alternative C: The SMA and its ACEC units would be rescinded, but the whole area would be designated a single ACEC.
| • Soil- and vegetation-disturbing activities would be prohibited within 100-year floodplains to prevent the degradation of aquatic habitat.
Santa Fe Ranch Cultural Geological Scenic Special Status Species Wildlife habitat | • Rights-of-way would be excluded with certain exceptions. • A portion would be closed to fluid mineral leasing while the majority would have controlled surface use stipulations attached to leases. • The Buckman-Diablo Canyon area would be withdrawn from locatable mineral entry. • Closed to mineral material sales. • Closed to wind energy. | No Action: No existing ACEC. Alternative A: 21,032 acres. Alternative B: 21,032 acres. Alternative C: ACEC would not be designated.
| • A portion would be closed to motorized travel. Vehicular use of the arroyo in Diablo Canyon would be allowed by permit only.
| • Visual Resource Management Class I would apply to a portion on the area, but to a larger portion under Alternative B.
| • Ephemeral stream channels would be protected to maintain stable hydrological processes and appropriate vegetative communities as measured by diversity and cover density.
Sombrillo Cultural Paleontological Scenic | • A 115-acre Off-Highway Vehicle staging area would be unavailable to livestock grazing (Alternative A only). • Controlled surface use stipulations would be applied to fluid mineral leases under the no action alternative and Alternative C, while no surface occupancy would be applied under Alternatives A and B. • The 60-acre traditional cultural property would be withdrawn from locatable mineral entry (Alternatives A and B only). • Closed to mineral material sales (Alternatives A and B only). | No Action: 8,600 acres. Alternative A: 17,440 acres. Alternative B: 17,440 acres. Alternative C: 8,600 acres.
| • Ephemeral stream channels would be protected to maintain stable hydrological processes and appropriate vegetative communities as measured by diversity and cover density.
| • Soil- and vegetation-disturbing activities would be restricted in order to reduce soil loss and degradation to water quality.
Taos Plateau Scenic Special Status Species Water quality and quantity Wetlands Wildlife habitat | • Rights-of-way would be excluded from the Wild Rivers, Ute Mountain, and San Antonio areas. • Livestock grazing would be limited and managed to ensure enhancement of critical elk and pronghorn winter range. No increase in grazing preference would be permitted. • The Ute Mountain, San Antonio, and Wild Rivers areas would be closed to fluid mineral leasing under Alternative A, while the entire ACEC would be closed under Alternative B. • The North Unit, Ute Mountain, and Wild Rivers areas would be withdrawn from locatable mineral entry under Alternatives A and B, while the San Antonio area would also be withdrawn under Alternative B. | No Action: No existing ACEC. Alternative A: 222,500 acres. Alternative B: 222,500 acres. Alternative C: ACEC not designated.
| • Closed to mineral material sales.
| • Closed to wind and solar energy.
| • Cerro de la Olla, the San Antonio area, and Ute Mountain would be closed to motorized travel.
| • Visual Resource Management Class I would apply to the Ute Mountain and San Antonio areas.
| • Cerro de la Olla, the San Antonio area, and Ute Mountain would be managed to protect their wilderness characteristics.
| • Modification of playa surface and adjacent uplands would be prohibited.
| • Coordinate with U.S. Forest Service to close Forest Road 1016 on a seasonal basis.

The land use planning process was initiated on May 26, 2006, through a Notice of Intent published in the Federal Register (Volume 71, Number 102, Page 30446), notifying the public of a formal scoping period and soliciting public participation in the planning process. Four scoping meetings were held in June 2006 in Taos, Las Vegas, Espanola, and Santa Fe. A scoping presentation was also made at an Eight Northern Pueblos Council meeting to engage the Governors of the eight Northern Pueblos. In addition, two Economic Profile System workshops were held in July 2006 to work with local citizens and community leaders to develop a common understanding of the local economies and the ways in which land use planning decisions might affect them. During the scoping period, which ended August 31, 2006, the public provided the Taos Field Office with input on relevant issues to consider in the planning process. Based on this public input and the BLM's goals and objectives, the Taos Field Office was able to formulate the four alternatives for consideration and analysis in the Draft RMP/EIS. Following the close of the public review and comment period, public comments will be used to revise the Draft RMP/EIS in preparation for its release to the public as the Taos Proposed Resource Management Plan and Final Environmental Impact Statement. The BLM will respond to each substantive comment by making appropriate revisions to the document or by explaining why a comment did not warrant a change. Notice of the availability of the Proposed RMP and Final EIS will be posted in the Federal Register.

Please note that public comments and information submitted, including names, street addresses, and email addresses of respondents, will be available for public review and disclosure at the above address during regular business hours (8 a.m. to 4:30 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Jesse Juen,
Acting State Director.

Authority: 40 CFR 1506.6; 40 CFR 1506.10; 43 CFR 1610.2.

[FR Doc. 2010-13959 Filed 6-9-10; 8:45 am]

BILLING CODE 4310-OW-P